SMALL BUSINESS ADMINISTRATION

[Disaster Declaration # 11166]

Arkansas Disaster # AR-00016

AGENCY: U.S. Small Business Administration.

ACTION: Notice.

SUMMARY: This is a Notice of the Presidential declaration of a major disaster for Public Assistance Only for the State of Arkansas (FEMA-1744-DR), dated 02/07/2008.

Incident: Severe Storms, Tornadoes, and Flooding

Incident Period: 02/05/2008 and continuing.

Effective Date: 02/07/2008.

Physical Loan Application Deadline Date: 04/07/2008.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: Notice is hereby given that as a result of the President's major disaster declaration on 02/07/2008, Private Non-Profit organizations that provide essential services of a governmental nature may file disaster loan applications at the address listed above or other locally announced locations.

The following areas have been determined to be adversely affected by the disaster:

Primary Counties: Baxter, Conway, Independence, Izard, Pope, Randolph, Sharp, Stone, Union, Van Buren.

The Interest Rates Are:

| Percent
Other (Including Non-Profit Organizations) With Credit Available Elsewhere | 5.250.
Businesses And Non-Profit Organizations Without Credit Available Elsewhere: | 4.000.
The number assigned to this disaster for physical damage is | 11166

(Catalog of Federal Domestic Assistance Number 59008)

Herbert L. Mitchell,
Associate Administrator for Disaster Assistance.

[FR Doc. E8-2847 Filed 2-14-08; 8:45 am]

BILLING CODE 8025-01-P